ENVIRONMENTAL PROTECTION AGENCY

40 CFR Parts 52 and 69

[EPA-R09-OAR-2005-0506; FRL-8030-4]

State Implementation Plan Revision and Alternate Permit Program; Territory of Guam

AGENCY: Environmental Protection Agency (EPA).

ACTION: Proposed rule.

SUMMARY: EPA is proposing to grant full approval for the Guam operating permit program regulations and an associated State Implementation Plan (SIP) revision submitted by the Territory of Guam (Guam). These submittals correct deficiencies identified in EPA's direct final interim approval rulemaking of January 9, 2003 (68 FR 1162). Full approval of Guam's alternate permit program and associated SIP revision will allow sources to be permitted under Guam's approved alternate operating permit program.

DATES: Any comments on this proposal must arrive by March 29, 2006.

ADDRESSES: Submit comments, identified by docket number EPA-R09-OAR-2005-0506, by one of the following methods:

1. Federal eRulemaking Portal: http://www.regulations.gov. Follow the on-line instructions.

2. Agency Web site: http://docket.epa.gov/rmepub/. EPA prefers receiving comments through this electronic public docket and comment system. Follow the on-line instructions to submit comments.

3. E-mail: pike.ed@epa.gov.

4. Mail or deliver: Gerardo Rios (Air-3), U.S. Environmental Protection Agency Region IX, 75 Hawthorne Street, San Francisco, CA 94105-3901.

Instructions: All comments will be included in the public docket without change and may be made available online at http://www.regulations.gov including any personal information provided, unless the comment includes Confidential Business Information (CBI) or other information whose disclosure is restricted by statute. Information that you consider CBI or otherwise protected should be clearly identified as such and should not be submitted through the agency Web site, eRulemaking portal or e-mail. The agency Web site and eRulemaking portal are “anonymous access” systems, and EPA will not know your identity or contact information unless you provide it in the body of your comment. If you send e-mail directly to EPA, your e-mail address will be automatically captured and included as part of the public comment. If EPA cannot read your comment due to technical difficulties and cannot contact you for clarification, EPA may not be able to consider your comment.

Docket: The index to the docket for this action is available electronically at http://www.regulations.gov and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Ben Machol, EPA Region IX, at (415) 972-3770, (Machol.Ben@epa.gov), Pacific Islands Office, or Ed Pike, at (415) 972-3970, (Pike.Ed@epa.gov), Permits Office, Air Division, at the EPA—Region IX address listed above.

SUPPLEMENTARY INFORMATION: In the Rules and Regulations section of this Federal Register, we are granting full approval of these local rules as Guam's alternate permit program in a direct final action without prior proposal because we believe this action is not controversial and do not anticipate adverse comment. A detailed rationale for this approval is set forth in the direct final rule. If we do not receive adverse comments, no further activity is planned. If EPA receives adverse comments, however, we will publish a timely withdrawal of the direct final action and address the comments in a subsequent final action based on this proposed rule. We will not open a second comment period, so anyone interested in commenting should do so at this time. For more information on this action, please see the information provided in the direct final rule of the same title located under the Rules and Regulations section of this Federal Register.

Dated: January 20, 2006.
Laura Yoshii,
Acting Regional Administrator, Region IX.

[FR Doc. 06-1741 Filed 2-24-06; 8:45 am]

BILLING CODE 6560-50-P